FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
TRANSACTIONS GRANTED EARLY TERMINATION—10/30/2000
2005095 | Arch Chemicals Inc | Iver W. Malmstron | Brooks Industries, Inc.
20005096 | Arch Chemicals Inc | Geoffrey Brooks | Brooks Industries, Inc.
20005168 | Charlesbank Equity Fund V, Limited Partnership | Edgewater Technology, Inc | Essex Computer Services, Inc.; ETEC Network Services, Inc.; IMRC, Inc.; and IntelliMark, Inc.
20010001 | Stimson Lumber Company | Idaho Forest Industries, Inc | Idaho Forest Industries, Inc.
20010012 | J. G. Durand Industries, S.A | Mikasa, Inc | Mikasa, Inc.
20010039 | Spirent plc | Iain Milnes | Zarak Systems Corporation.
20010068 | Security Capital Group Incorporated | Security Capital U.S. Realty | CarrAmerica Realty Corporation; City Center Retail Trust; CWS Communities Trust; CWS Management Services; East Mixed Use Trust; Interparking; Mideast Mixed Use Trust; Regency Realty Corporation; Storage USA, Inc.; Urban Growth Property Trust; and West Mixed Use Trust.
20010087 | Gerald W. Schwartz | Associates First Capital Corporation | ACS Teleservices, Inc.
20010090 | Skanska AB | Baugh Enterprises, Inc | Baugh Enterprises, Inc.
20010190 | Berkshire Hathaway, Inc | Carl F. Barron | Putman Furniture Leasing Company, Inc.
20010202 | The Chase Manhattan Corporation | TeleCorp-Tritel Holding Company | TeleCorp-Tritel Holding Company.
20010208 | Dresdner Bank AG | TeleCorp-Tritel Holding Company | TeleCorp-Tritel Holding Company.
20010210 | Private Equity Investors III, L.P | TeleCorp-Tritel Holding Company | TeleCorp-Tritel Holding Company.
20010211 | Equity-Linked Investors-II | TeleCorp-Tritel Holding Company | TeleCorp-Tritel Holding Company.
20010212 | Hoak Communications Partners, L.P | TeleCorp-Tritel Holding Company | TeleCorp-Tritel Holding Company.
20010213 | E. B. Martin, Jr | TeleCorp-Tritel Holding Company | TeleCorp-Tritel Holding Company.
20010214 | HCP Capital Fund, L.P | TeleCorp-Tritel Holding Company | TeleCorp-Tritel Holding Company.
20010227 | William M. Mounger, III | TeleCorp-Tritel Holding Company | TeleCorp-Tritel Holding Company.
TRANSACTIONS GRANTED EARLY TERMINATION—10/31/2000
20004939 | Orica Limited | LaRoche Industries Inc | LaRoche Industries Inc.
20010100 | Exodus Communications, Inc | Global Crossing Ltd | GlobalCenter Holding Co.
20010101 | Global Crossing Ltd | Exoduc Communications, Inc | Exoduc Communications, Inc.
20010114 | Hans Georg Nader | Hanger Orthopedic Group, Inc | Seattle Orthopedic Group, Inc.
20010122 | Kenneth R. Thomson | Thyssen-Bornemisza Continuity Trust | IHS EEO Management Systems Inc.; IHS Environmental Products Inc.; and IHS HR Products Inc.
20010126 | Hicks, Muse, Tate & Furst Equity Fund V, L.P | J.D. Power Clubs, Inc | J.D. Power Clubs, Inc.
20010133 | Magnetek, Inc | Ted W. Abney | J-Tec, Inc.
20010134 | Morgan Stanley Dean Witter & Co | Kanbay International, Inc | Kanbay International, Inc.
20010143 | John J. Taylor, III | Sutton Distributing Company, Inc | Sutton Distributing Company, Inc.
20010146 | Caisse de depot et placement du Quebec | Next Generation Network, Inc | Next Generation Network, Inc.
20010150 | Broadbase Software, Inc | Servicesoft, Inc | Servicesoft, Inc.
20010155 | Sigma Partners IV, L.P | Broadbase Software, Inc | Broadbase Software, Inc.
20010161 | ABRY Broadcast Partners III, L.P | John D. Engelbrecht | South Central Communications Corporation.
20010162 | Broadcom Corporation | Allayer Commuications | Allayer Communications.
20010166 | SCF-IV, L.P | HORNBECK-LEEVAC Marine Services, Inc | HORNBECK-LEEVAC Marine Services, Inc.
20010167 | Patrick J. Purcell | FMR Corp | Community News, LLC.
20010170 | Komatsu Ltd | Galveston-Houston Company | Hensley Industries, Inc.
20010173 | Peter Munk | Network Two Communications Group, Inc | NetworkTwo Communications Group, Inc.
20010175 | Heartland Industrial Partners, L.P | Simpson Industries, Inc | Simpson Industries, Inc.
20010180 | American Tower Corporation | InterPacket Networks, Inc | InterPacket Networks, Inc.
20010183 | Citigroup Inc | Geneva Group, Inc | Geneva Group, Inc.
20010189 | Caisse Nationale de Credit Agricole | CPR | CPR.
20010219 | General Electric Company | Columbia New Media Investors, L.P | SpaceWorks, Inc.
20010245 | Warburg, Pincus Equity Partners, L.P | Novo Nordisk A/S | ZymoGenetics, Inc.
20010246 | APAX Excelsior VI, L.P | Novo Nordisk st A/S | ZymoGenetics, Inc.
20010247 | Grant Prideco, Inc | Seam-Mac Tube, Inc | Seam-Mac Tube, Ltd.
20010249 | NOVA Chemicals Corporation | The Dow Chemical Company | Midland Pipeline Corp.
20010250 | Carrols Holding Corporation | Taco Cabana, Inc | Taco Cabana, Inc.
20010251 | Thoma Cressey Fund VI, L.P | Arvind Goel | Unixpros, Inc.
20010252 | Arvind Goel | Thoma Cressey Fund VI, L.P | Eclipse Networks, Inc
20010258 | O. Bruton Smith | Eddie W. Philpott | Philpott Motors, Ltd.
20010266 | United Technologies Corporation | Specialty Equipment Companies, Inc | Specialty Equipment Companies, Inc.
20010275 | Andreas Strungmann | Teva Pharmaceutical Industries Limited | Teva Pharmaceutical Industries Limited.
TRANSACTIONS GRANTED EARLY TERMINATION—11/01/2000
20001485 | AstraZeneca PLC | Novartis US Co | Novartis US Co.
TRANSACTIONS GRANTED EARLY TERMINATION—11/02/2000
20010013 | Siemens AG | Acuson Corporation | Acuson Corporation.
20010057 | David Smith | GOCOM Holdings, LLC | GOCOM Television of Ouachita, L.L.C.; and GOCOM-Ouachita License, L.L.C.
20010079 | ABRY Broadcast Partners II, L.P | GOCOM Holdings, LLC | GOCOM Television of Quachita, L.L.C.
20010088 | CareFirst, Inc | Preferred Health Network of Maryland, Inc | Preferred Health Network of Maryland, Inc.
20010121 | Sun Microsystems, Inc | Cobalt Networks, Inc | Cobalt Networks, Inc.
20010131 | Xenogen Corporation | MDS Inc | Chrysalis DNX Transgenic Sciences Corporation.
20010132 | MDS Inc | Xenogen Corporation | Xenogen Corporation.
TRANSACTIONS GRANTED EARLY TERMINATION—11/03/2000
20010064 | ASM Lithoraphy Holding N.V | Silicon Valley Group, Inc | Silicon Valley Group, Inc.
20010066 | The Chase Manhattan Corporation | J. P. Morgan & Co. Incorporated | J. P. Morgan & Co. Incorporated.
20010256 | Tom Brown, Inc | Kinder Morgan, Inc | Wildhorse Energy Partners, LLC.
TRANSACTIONS GRANTED EARLY TERMINATION—11/06/2000
20005134 | E M. TV & Merchandising AG | Voting Trust, 12/4/68, for v.s. of Hallmark Cards Inc | Crown Media Holdings, Inc.
20010011 | AT&T Corporation | VoiceStream Wireless Corporation | Omnipoint Holdings, Inc.; Omnipoint MI-Indiana DE License, LLC; Omnipoint St. Louis Area DE License, LLC; and VoiceStream PCS BTA I License Corporation.
20010018 | John H. Harland Company | Netzee, Inc | Netzee, Inc.
20010128 | UnitedHealth Group Incorporated | Lifemark Corporation | Lifemark Corporation.
20010148 | Ronald W. Burkle | Kmart Corporation | Kmart Corporation.
20010179 | Baker Communications Fund II (QP), LP | Traffic.com, Inc | Traffic.com, Inc.
20010182 | LSI Industries, Inc | Eugene Littman | Lightron of Cornwall, Inc.
20010197 | HWH Capital Partners, L.P | Mel Harris | Preferred Healthcare Staffing, Inc.
20010215 | De Sammensluttede Vognmaend af 13-7 1976 A/S | The J. Lauritzen Foundation | DFDS Dan Transport Group A/S.
20010224 | Landmark Communications, Inc | Exit Information Guide, LLC | Exit Information Guide, LLC.
20010225 | Cox Enterprises, Inc | Exit Information Guide, LLC | Exit Information Guide, LLC.
20010265 | UBS Capital Americas II, LLC | Avail Medical Products, Inc | Avail Medical Products, Inc.
20010288 | Pechiney | JPS Packaging Company | JPS Packaging Company.
20010299 | Leggett & Platt, Incorporated | Laclede Mid-America, Inc., debtor in possession | Laclede Mid-America, Inc., debtor in possession.
20010312 | UBS Capital Americas II, LLC | TCA Acquisition Corp | TCA Acquisition Corp.
TRANSACTIONS GRANTED EARLY TERMINATION—11/07/2000
20010257 | Hicks, Muse, Tate & Furst Equity Fund III, L.P | Laughlin-Wilt Group, Inc | Laughlin-Wilt Group, Inc.
20010271 | Group 1 Automotive, Inc | Trust B Under the Will of Claude E. Smith | Stone Mountain Ford, Inc.; and Stone Mountain Motor Company, Inc.
20010272 | The Dow Chemical Company | The Collaborative Group, Ltd | Collaborative Bioalliance, Inc.; and Collaborative Smithfield Corp.
20010278 | AMERCO | Christian Fidelity Life Insurance Company | Christian Fidelity Life Insurance Company.
20010287 | Jackpot Enterprises, Inc | InterWorld Corporation | InterWorld Corporation.
20010310 | Tyco International Ltd | Perseus Fisk, L.L.C | Fisk Corporation.
20010316 | Wal-Mart Stores, Inc | John V. Holten | AmeriServe Food Distribution, Inc.; AmeriServe Transportation, Inc.; and NEBCO Evan.
20010328 | Cisco Systems, Inc | CAIS Internet, Inc | CAIS Software Solutions, Inc., CAIS, Inc.
20010335 | United News & Media plc | Creative Planet, Inc | Creative Planet, Inc.
TRANSACTIONS GRANTED EARLY TERMINATION—11/08/2000
20010097 | USX Corporation | The LTV Corporation | LTV Steel Company, Inc.
20010165 | DoubleClick Inc | @plan.inc | @plan.inc.
20010185 | Queens County Bancorp, Inc | Haven Bancorp, Inc | Haven Bancorp, Inc.
20010198 | The Southern Company | Potomac Electric Power Company | Potomac Electric Power Company.
20010228 | DoubleClick Inc | NetCreations, Inc | NetCreations, Inc.
20010230 | First Union Corporation | JWGenesis Financial Corp | JWGenesis Financial Corp.
20010269 | Brian L. Roberts | Rapid Communications, Partners, L.P | Rapid Communications, Partners, L.P.
20010285 | The 1818 Fund III, L.P | Z-Tel Technologies, Inc | Z=Tel Technologies, Inc.
20010294 | Cerner Corporation | ADAC Laboratories, Inc | ADAC health Care Information Systems Inc.
20010317 | RWE Aktiengesellschaft | E'Town Corporation | E'Town Corporation.
TRANSACTIONS GRANTED EARLY TERMINATIOIN—11/09/2000
20003866 | Oak Hill Capital Partners, L.P | TCA Acquisition Corporation | TCA Acquisition Corporation.
20010113 | Egide S.A | Industrial Growth Partners, L.P | Electronic Protection Products, Inc.
20010178 | C-MAC Industries Inc | Fred Kavli | Kavilco Corporation.
20010195 | GS Capital Partners II Offshore, L.P | PNY Technologies, Inc | PNY Technologies, Inc.
20010196 | GS Capital Partners II, L.P | PNY Technologies, Inc | PNY Technologies, Inc.
20010216 | Allegheny Energy, Inc | Potomac Electric Power Company | Potomac Electric Power Company.
20010218 | Hicks, Muse, Tate & Furst Equity Fund V. L.P | Vetrix Business Solutions, Inc | Vetrix Business Solutions, Inc.
20010234 | Cinergy | Albert E. Cinelli | Q-Comm Corporation.
20010235 | Albert E. Cinelli | Cinergy Corporation | Cinergy Telecommunication Networks Holdings, Inc.
20010237 | Bank One Corporation | Linc.net, Inc | Linc.net, Inc.
20010238 | Granada Compass, plc | Bruckmann, Rosser, Sherrill & Co., L.P | ABP Acquisition Holdings Corporation.
20010253 | The SKM Equity Fund II, L.P | Inc.net, Inc | Lin.net, Inc.
20010262 | Medallion Financial Corp | The Royal Bank of Scotland Group plc | Firestone Financial Canada, Ltd.
20010276 | Thomas Shrungmann | Teva Pharmaceutical Industries Limited | Teva Pharmaceutical Industries Limited.
20010277 | Eon Labs, Inc | Teva Pharmaceutical Industries Limited | Teva Pharmaceutical Industries Limited.
20010300 | C-MAC Industries, Inc | DY 4 Systems Inc | DY 4 Systems Inc.
20010301 | Olympus Growth Fund III, L.P | TCA Acquisition Corporation | TCA Acquisition Corporation.
20010313 | David Lee | CIDCO Incorporated | CIDCO Incorporated.
20010346 | Exelon Corporation | David J. Brule, Sr | NEWCO.
TRANSACTIONS GRANTED EARLY TERMINATION—11/09/2000
20010138 | Genzyme Corporation | GelTex Pharmaceuticals, Inc | GelTex Pharmaceuticals, Inc.
20010204 | School Speciality, Inc | J. L. Hammett Company | J. L. Hammett Company.
20010241 | Huhtamaki Lan Leer Oyj | Howard P. Hoeper | Packaging Resources Group, Inc.
20010242 | Kinder Morgan Energy Partners, L.P | Kinder Morgan, Inc | Coyote Gas Treating Limited Liability Co.; Kinder Morgan Texas Pipeline, Inc.; and MidCon NGL Corp.
20010243 | V. Prem Watsa | PXRE Group Ltd | Transnational Insurance Company.
20010254 | Kinder Morgan Energy Partners, L.P | Gavin J. Parfit | Delta Terminal Services, Inc.
20010260 | Melton Financial Corporation | The Chase Manhattan Corporation | ChaseMellon Financial Group, LLC.
20010264 | Community Health Systems, Inc | Northeast Regional Medical Center, Inc | Northeast Regional Medical Center, Inc.
20010273 | Seminole Transportation and Trading, Inc | Petro Source Investments, Inc | Petro Source Investments, Inc.
20010279 | Morgenthaler Partners VI, L.P | Peregrine Semiconductor Corporation | Peregrine Semiconductor Corporation.
20010282 | Marmon Holdings, Inc | San Antonio Retail Merchants Association | SARMA Charitable Remainder Unitrust; and SARMA, Ltd.
20010303 | Balli Group Plc | E.ON AG | Klockner Steel Trade Corporation.
20010305 | BigVine.com, Inc | NBC Internet, Inc | NBC Internet, Inc.
20010307 | Christopher Goldsbury, Jr | Premier Brands, L.L.C | Mother's Kitchen, Inc.
20010308 | ABN AMRO Holding N.V | Arnold Star Trust | Consolidated Service Corporation; and Starr Consolidated Corporation.
20010309 | ABN AMRO Holding N.V | Ronald Bryant Starr Trust | Consolidated Service Corporation.
20010314 | Aviall, Inc | RSTW Partners III, L.P | SP Holdings Corp.
20010401 | Broadview Capital Partners Qualified Purchaserer Fund, L.P | United Messaging, Inc | United Messaging, Inc.
TRANSACTIONS GRANTED EARLY TERMINATION—11/14/2000
20010116 | Exelon Corporation | National Grid Group plc | AllEnergy Gas & Electric Marketing Company, LLC.
20010199 | Bayer AG | CSM Holding, Inc | CSM Holding, Inc.
20010274 | Toshiba Corporation | International Business Machines Corporation | Dominion Semiconductor L.L.C.
20010280 | Novartis AG | Orion Corporation | Orion Corporation.
20010283 | Stanley E. Fulton | Anchor Gaming | Nuevo Sol Turf Club, Inc.
20010315 | Kenneth R. Thomson | David and Jean Bender (husband and wife) | Greenhaven Press, Inc.
20010319 | Bank of America Corporation | Gerald C. Leineberg | All Felt Filtration, LLC. All Felt Products, Inc. Hamilton Leasing Co.
20010322 | Imison Investments N.V. | Diamond Technology Partners Incorporated | Diamond Technology Partners Incorporated.
20010324 | Deere & Company | XATA Corporation | XATA Corporation.
20010325 | West Fraser Timber Co. Ltd | Plum Creek Timber Company, Inc | Plum Creek Marketing, Inc.; and Plum Creek Southern Lumber, Inc.
20010326 | Career Education Corporation | EduTrek International, Inc | EduTrek International, Inc.
20010327 | Robert Alpert | Robert Barclay, Inc | Robert Barclay, Inc.
20010332 | Computer Associates International, Inc | MetaCreations Corporation | MetaCreations Corporation.
20010338 | Audax Private Equity Fund, L.P | Radiologix, Inc | Radiologix, Inc.
20010342 | Steven B. Kalafer | AutoNation, Inc | Circle Buick/GMC, LLC; Ditschman/Flemington; Ford-Lincoln-Mercury, LLC; Ditschman/Flemington Pontiac, Inc.; Ditschman/Flemington Property Rentals, Inc.; Flemington Dodge-Chrysler-Jeep, LLC; Flemington Equities, Inc.; Flemington Infiniti, LLC; Flemington Land Rover, Inc.; Flemington Nissan/BMW, LLC; Flemington Subaru, LLC; General Providers Reinsurance Company Ltd.; JJSS, LLC; Princeton's Nassau/Conover Ford-Lincoln-Mercury, Inc.; Prinu, Inc.; SaBeK, Inc.; and SNDK, LLC.
20010347 | Outokumpu Oyj | Corus Group plc | Avesta Sheffield AB.
20010349 | John Robert McCaig and M. Ann McCaig | Trimac Holdings Ltd | Trimac Holdings Ltd.
20010369 | Schlumberger Limited | Convergent Group Corporation | Convergent Group Corporation.
20010411 | Performance Food Group Company | Phillip J. Cooper | Redi-Cut Foods, Inc.
TRANSACTIONS GRANTED EARLY TERMINATION—11/16/2000
20010229 | Calpine Corporation | James S. Gordon | Dighton Power Associates Ltd. Partnership.
20010361 | SAirGroup AG | Willis Lease Finance Corporation | Willis Lease Finance Corporation.
20010367 | Berkshire Hathaway Inc | Homemakers Plaza, Inc | Homemakers Plaza, Inc.
20010378 | Hewlett-Packard Company | Bluestone Software, Inc | Bluestone Software, Inc.
20010379 | John and Patricia MacFarlane | Phone.com, Inc | Phone.com, Inc.
TRANSACTIONS GRANTED EARLY TERMINATION—11/17/2000
20010244 | Marc Ladreit de Lacharriere | Kenneth R. Thomson | Thomson Bankwatch, Inc.; and Thomson Finance, S.A.
20010248 | SmithKline Beecham plc | Block Drug Company, Inc | Block Drug Company, Inc.
20010306 | CacheFlow, Inc | Entera, Inc | Entera, Inc.
20010329 | RGS Energy Group, Inc | National Grid Group, PLC | AllEnergy Marketing Company L.L.C.
20010348 | Global View Technologies, Inc | SBC Communications Inc | Clover Technologies, Inc.
20010351 | Dresdner Bank AG | Wasserstein Perella Group, Inc | Wasserstein Perella Group, Inc.
20010353 | The Washington Post Company | AT&T Corp | Insight Communications Company, L.P.
20010354 | AT&T | The Washington Post Company | Cable One, Inc.
20010355 | USX Corporation | Transtar Holdings, L.P | Transtar, Inc.
20010356 | The Boots Company PLC | The Procter & Gamble Company | The Procter & Gamble Company.
20010359 | Time Warner Inc | Tribune Company | Times Mirror Magazines, Inc.
20010360 | CACI International Inc | Network Equipment Technologies Inc. d/b/a net.com | Network Equipment Technologies Inc. d/b/a net.com.
20010362 | Dain Rauscher Corporation | Dougherty Financial Group, LLC | Voyageur Asset Management LLC.
20010363 | United Petroleum Corporation | Pennzoil-Quaker State Company | Pennzoil-Quaker State Company.
20010368 | DLJ Merchant Banking Partners III, L.P | InFlow, Inc | InFlow, Inc.
20010370 | Walt Disney Company (The) | Sumner M. Redstone | Infinity Radio License Inc. Infinity WOAZ-FM, Inc., Infinity Radio Inc.
20010373 | Insight Communications Company, Inc | The Washington Post Company | Cable One, Inc.
20010381 | Dynegy Inc | CH Energy Group, Inc | Central Hudson Gas & Electric Corporation.
20010382 | Dynegy Inc | Consolidated Edison, Inc | Consolidated Edison Company of New York, Inc.
20010383 | Dynegy Inc | Niagara Mohawk Holdings, Inc | Niagara Mohawk Power Corporation. | 20010386 | El Paso Energy Corporation | Waller Creek Communications, Incorporated | Waller Creek Communications, Incorporated.
20010387 | Centennial Fund VI, L.P | Vector esp, Inc | Vector esp, Inc.
20010389 | Bank of America Corporation | Thomas F. Marsico | TFM Holdings, LLLP.
20010399 | Ferro Corporation | A. George Holstein | Pfanstiehl Laboratories, Inc.
20010400 | Ferro Corporation | Edward S. Holstein | Pfanstiehl Laboratories, Inc.
20010409 | Warburg, Pincus Equity Partners, L.P | NextStage Entertainment Corporation | NextStage Entertainment Corporation.
TRANSACTIONS GRANTED EARLY TERMINATION—11/20/2000
20010137 | Tyco International Ltd | InnerDyne Inc | InnerDyne Inc.
20010350 | Baldor Electric Company | Thomas J. McGuire | Pow'R Gard Generator Corporation.
20010365 | Illinois Tool Works Inc | David A. Williams | Aervoe Pacific Company, Inc.
20010371 | Protocol Communications, Inc | CPU, Inc | CPU, Inc.
20010392 | College Enterprises, Inc | AT&T Corp | AT&T CampusWide Access Solutions, Inc.
20010394 | David R. Rydell | BorgWarner Inc | BorgWarner Turbo Systems Inc.
20010395 | Occidental Petroleum Corporation | BP Amoco p.l.c | Amoco Este Pipeline Company; and Bravo pipeline Company, Amoco Pipeline Asset Company.
20010397 | Vectren Corporation | NiSource Inc | Miller Pipeline Corporation.
20010398 | Cinergy Corporation | NiSource Inc | Miller Pipeline Corporation.
20010402 | Quanex Corporation | Temroc Metals, Inc | Temroc Metals, Inc.
20010403 | George A. Steiner Trust | Michael C. Carlos | Servitex, Inc.
20010404 | George A. Steiner Trust | Jay M. Davis | Servitex, Inc.
20010405 | Teleogic AB | Continuus Software Corporation | Continuus Software Corporation.
20010406 | NCO Group, Inc | Creditrust Corporation | Creditrust Corporation.
20010410 | Marriott International, Inc | H Group Holding, Inc | Rosemont Purchasing, Inc.
20010412 | Fuji Photo Film Co., Ltd | Applied Graphics Technologies, Inc | Applied Graphics Technologies, Inc.
20010413 | Wells Fargo & Co | eFORCE, Inc | eFORCE, Inc.
20010414 | J. Brent & Katherin Wood | Aviation Sales Company | Aviation Sales Company.
20010419 | Bernhard Fritsch | Applied Digital Solutions, Inc | Applied Digital Solutions, Inc.
20010420 | Applied Digital Solutions, Inc | Bernhard Fritsch | MCY.com, Inc.
20010421 | Cherokee Investment Parnters II, L.P | Royal Dutch Petroleum Company | Royal Dutch Petroleum Company.
20010422 | Rail Van, Inc | Rail Van, Inc | Rail Van LLC.
20010424 | Flextronics International Ltd | Silver Lake Partners, L.P | SubmitOrder.com, Inc.
20010425 | Sankyo Company Limited | Pfizer Inc | Sankyo/Parke Davis.
20010427 | Arrow Electronics, Inc | eChips, Inc | eChips, Inc
20010428 | The TriZetto Group, Inc | Thomas H. Heimsoth | Resource Information Management Systems, Inc.
20010429 | The TriZetto Group, Inc | Terry L. Kirch | Resource Information Management Systems, Inc.
20010434 | Avnet, Inc | eChips, Inc | eChips, Inc.
20010435 | Vantico Holding S.A | 3D Systems Corporation | 3D Systems Corporation.
20010438 | International Rectifier Corporation | Smiths Industries plc | Lambda Advanced Analog Inc.
20010442 | Microchip Technologies, Inc | TelCom Semiconductor, Inc | TelCom Semiconductor, Inc.
20010446 | Science Applications International Corporation | Predictive Systems, Inc | Predictive Systems, Inc.
20010447 | Predictive Systems, Inc | Science Applications International Corporation | Global Integrity Corporation.
20010449 | Henry L. Hillman | Henry L. Hillman | Fluid Power Holdings, LLC.
20010450 | Associated Healthcare Systems, Inc | HCA—The HealthCare Company | CHCK, Inc.
20010452 | Evening Post Publishing Company | A.H. Belo Corporation | Bryan-College Station Eagle, Inc.
20010453 | Berkshire Hathaway Inc | Shaw Industries, Inc | Shaw Industries, Inc.
20010456 | OAO Oil Company LUKoil | Getty Petroleum Marketing Inc | Getty Petroleum Marketing Inc.
20010458 | Levitz Furniture Incorporated | Seaman Furniture Company, Inc | Seaman Furniture Company, Inc.
20010459 | Seaman Furniture Company, Inc | Levitz Furniture Incorporated | Levitz Furniture Incorporated.
20010460 | M.D. Sass Corporate Resurgence Partners, LP | Levitz Home Furnishings, Inc | Levitz Home Furnishings, Inc.
20010461 | M.D. Sass Re/Enterprise Partners, LP | Levitz Home Furnishings, Inc | Levitz Home Furnishings, Inc.
20010462 | Trust “O” for a portion of the Assets of the Kodak | Levitz Home Furnishings, Inc | Levitz Home Furnishings, Inc.
20010463 | M.D. Sass Corporate Resurgence International, Ltd | Levitz Home Furnishings, Inc | Levitz Home Furnishings, Inc.
20010464 | M.D. Sass Corporate Resurgence Partners II, LP | Levitz Home Furnishings, Inc | Levitz Home Furnishings, Inc.
20010465 | AutoNation, Inc | Patricia McKinney | Nissan of Brandon, Inc.
20010466 | Nextel Communications, Inc | MoBex Communications, Inc | MoBex License Company.
20010467 | The AES Corporation | Gener S.A | Gener S.A.
20010471 | Castle Harlan Partners III, LP | Jon C. Buff | Associated Packaging Enterprises, Inc.
20010472 | Enel S.p.A | CHI Energy, Inc | CHI Energy, Inc.
20010474 | Gannett Co., Inc | space.com, Inc | space.com, Inc.
20010476 | Tyco International Ltd | Frank Hsing | FAI Technology (Holding) Inc.
20010478 | Protocol Communications, Inc | Donald R. Dickinson | Dickinson Advertising, Inc.
20010487 | AES Corporation | IPALCO Enterprises, Inc | IAPLCO Enterprises, Inc.
20010491 | Intracom S.A. Hellenic Telecommunications & Electronics Ind | Charles and Mable E. Conklin | Conklin Corporation.
20010493 | Siemens Aktiengesellschaft | Quintus Corporation | Quintus Corporation.
20010495 | SBC Communications Inc | SBC Communications Inc | Springwich Cellular Limited Partnership.
20010502 | MKS Instruments, Inc | Applied Science and Technology, Inc | Applied Science and Technology, Inc.
20010530 | TH Lee. Putnam Internet Partners, L.P | Parago, Inc | Parago, Inc.
TRANSACTIONS GRANTED EARLY TERMINATION—11/22/2000
20010302 | Smiths Industries plc | TI Group plc | TI Group plc.
20010501 | PRIMEDIA Inc | About.com, Inc | About.com, Inc.
20010525 | Sonera Corporation | Metro One Telecommunications, Inc | Metro One Telecommunications, Inc.

FOR FURTHER INFORMATION CONTACT: Sandra M. Peay, or Parcellena P. Fielding, Contact Representatives, Federal Trade Commission, Premeger Notificiation Office, Bureau of Competition, Room 303, Washington, DC 20580, (202) 326-3100.

By Direction of the Commission.
Donald S. Clark,
Secretary.

[FR Doc. 00-33030 Filed 12-27-00 8:45 am]

BILLING CODE 6750-01-M